NUCLEAR REGULATORY COMMISSION

[NRC-2015-0231]

Clarification of Licensee Actions in Support of Enforcement Guidance for Tornado-Generated Missiles

AGENCY: Nuclear Regulatory Commission.

ACTION: Interim staff guidance; issuance.

SUMMARY: The U.S. Nuclear Regulatory Commission (NRC) is issuing Interim Staff Guidance (ISG) DSS-ISG-2016-01, “Clarification of Licensee Actions in Receipt of Enforcement Discretion Per Enforcement Guidance Memorandum EGM 15-002, `Enforcement Discretion for Tornado-Generated Missile Protection Noncompliance.' ” This ISG provides clarifying guidance for staff understanding of expectations for consistent oversight associated with implementing enforcement discretion for tornado missile protection noncompliance per EGM 15-002 and allows consistent enforcement and regulation of licensees that implement corrective actions outlined in EGM 15-002.

DATES: This guidance is effective on February 25, 2016.

ADDRESSES: Please refer to Docket ID NRC-2015-0231 when contacting the NRC about the availability of information regarding this document. You may obtain publicly-available information related to this document using any of the following methods:

• Federal Rulemaking Web site: Go to http://www.regulations.gov and search for Docket ID NRC-2015-0231. Address questions about NRC dockets to Carol Gallagher; telephone: 301-415-3463; email: Carol.Gallagher@nrc.gov. For technical questions, contact the individual(s) listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Interim Staff Guidance DSS-ISG-2016-01, “Clarification of Licensee Actions in Receipt of Enforcement Discretion Per Enforcement Guidance Memorandum EGM 15-002, `Enforcement Discretion for Tornado-Generated Missile Protection Noncompliance' ” is available in ADAMS under Accession No. ML15348A202.

• NRC's PDR: You may examine and purchase copies of public documents at the NRC's PDR, Room O1-F21, One White Flint North, 11555 Rockville Pike, Rockville, Maryland 20852.

FOR FURTHER INFORMATION CONTACT: Todd Keene, Office of Nuclear Reactor Regulation, U.S. Nuclear Regulatory Commission, Washington, DC 20555-0001; telephone: 301-415-1994, email: Todd.Keene@nrc.gov.

SUPPLEMENTARY INFORMATION: Following the issuance of EGM 15-002 (ADAMS Accession No. ML15111A269), the staff received stakeholder comments requesting clarification in complying with NRC expectations for implementing enforcement discretion in accordance with the EGM, specifically the implementation of compensatory measures and guidance on addressing operability status of equipment once the EGM is implemented. The NRC staff has developed ISG DSS-ISG-2016-01, “Clarification of Licensee Actions in Receipt of Enforcement Discretion Per Enforcement Guidance Memorandum (EGM) 15-002, `Enforcement Discretion for Tornado-Generated Missile Protection Noncompliance,' ” to provide clarification concerning the implementation of EGM 15-002.

Dated at Rockville, Maryland, this 19th day of February, 2016.
For the Nuclear Regulatory Commission.
Alex Garmoe,
Acting Chief, Generic Communications Branch, Division of Policy and Rulemaking, Office of Nuclear Reactor Regulation.

[FR Doc. 2016-04023 Filed 2-24-16; 8:45 am]

BILLING CODE 7590-01-P